DEPARTMENT OF ENERGY

Federal Energy Regulatory Commission

[Docket No. EC04-487-000, et al.]

National Energy Generating Company, LLC, et al.; Electric Rate and Corporate Filings

January 8, 2004.

The following filings have been made with the Commission. The filings are listed in ascending order within each docket classification.

1. National Energy Generating Company, LLC, Peach IV Power Corporation, Black Hawk III Power Corporation, Lake Road Generating Company, L.P.

[Docket No. EC04-48-000]

Take notice that on December 30, 2003, National Energy Generating Company, LLC, Peach IV Power Corporation, Black Hawk III Power Corporation, and Lake Road Generating Company, L.P., as agent for Lake Road Trust Ltd., each a wholly-owned indirect subsidiary of National Energy & Gas Transmission, Inc., filed with the Federal Energy Regulatory Commission an application pursuant to Section 203 of the Federal Power Act for authorization for a proposed intra-corporate reorganization.

Comment Date: January 20, 2004.

2. National Energy Generating Company, LLC, National Energy Generating Holdings, Inc,. La Paloma Power Corporation, La Paloma Generating Company, LLC

[Docket No. EC04-49-000]

Take notice that on December 30, 2003, National Energy Generating Company, LLC, National Energy Generating Holdings, Inc., La Paloma Power Corporation and La Paloma Generating Company, LLC, as agent for La Paloma Generating Trust Ltd., each a wholly-owned indirect subsidiary of National Energy & Gas Transmission, Inc., filed with the Federal Energy Regulatory Commission an application pursuant to Section 203 of the Federal Power Act for authorization for a proposed intra-corporate reorganization.

Comment Date: January 20, 2004.

3. Lake Road Trust Ltd., The Connecticut Light and Power Company

[Docket No. EC04-50-000]

Take notice that on December 30, 2003, Lake Road Trust Ltd. (Lake Road) and The Connecticut Light and Power Company (CL&P) (together, Applicants), filed with the Federal Energy Regulatory Commission an application pursuant to Section 203 of the Federal Power Act for authorization to transfer certain jurisdictional facilities held by Lake Road to CL&P.

Comment Date: January 20, 2004.

4. Quachita Power, LLC Complainant, v. Entergy Louisiana, Inc. and Entergy Services, Inc. Respondents

[Docket No. EL04-49-000]

Take notice that on January 7, 2004, Quachita Power, LLC (Quachita) filed a complaint against Entergy Louisiana, Inc. and Entergy Services, Inc. (together, Entergy) relating to the payment of transmission credits and interest under the Interconnection and Operating Agreement between Quachita and Entergy.

Comment Date: January 27, 2004.

5. Public Service Electric and Gas Company and PSEG Energy Resources & Trade LLC

[ Docket Nos. ER99-3151-003 and ER99-837-004]

Take notice that on December 30, 2003, Public Service Electric and Gas Company and PSEG Energy Resources & Trade LLC submitted a compliance filing in response to the Commission's November 17, 2003 Order Amending Market-based Rate Tariffs and Authorizations in Docket Nos. EL01-118-000 and 001.

Comment Date: January 20, 2004.

6. Alliant Energy Corporate Services, Inc.

[Docket No. ER03-762-003]

Take notice that on December 23, 2003, Alliant Energy Corporate Services, Inc. (AESC) submitted for filing Original Sheet Nos. 27 and 28 under FERC Electric Tariff Volume No. 1, pursuant to Commission Order issued December 11, 2003 in Docket No. EL01-118-000, et. al.

Comment Date: January 13, 2004.

7. New York Independent System Operator, Inc.

[Docket No. ER03-766-002]

Take notice that on December 30, 2003, the New York Independent System Operator, Inc., filed its report on the operation of scarcity pricing and Special Case Resources/Emergency Demand Response Program pricing from June 23, 2003 through November 30, 2003.

Comment Date: January 20, 2004.

8. New York Independent System Operator, Inc.

[Docket No. ER04-54-001]

Take notice that on December 30, 2003, the New York Independent System Operator, Inc. (NYISO), tendered for filing a compliance filing in connection with the Commission's December 15, 2003 order issued in ER04-54-000.

The NYISO states that it has served a copy of the filing on all parties listed on the official service list in Docket No. ER04-54-000, on all parties that have executed Service Agreements under the NYISO's Open-Access Transmission Tariff or Services Tariff, the New York State Public Service Commission and the electric regulatory agencies in New Jersey and Pennsylvania.

Comment Date: January 20, 2004.

9. GPU Advanced Resources, Inc.

[Docket No. ER04-343-000]

Take notice that on December 30, 2003, GPU Advanced Resources, Inc. (GPU AR) submitted a notice of cancellation of its market-based rate sales tariff, GPU Advanced Resources, Inc., Rate Schedule FERC No. 1.

GPU AR states that it has served copies of the filing on regulators in Pennsylvania and New Jersey.

Comment Date: January 20, 2004.

10. Exelon New Boston, LLC

[Docket No. ER04-344-000]

Take notice that on December 30, 2003, Exelon New Boston, LLC (Exelon New Boston), tendered for filing a proposed amendment and restatement of its reliability must-run agreement with ISO New England, Inc., Exelon New Boston, Electric Rate Schedule FERC No. 3. Exelon New Boston requests an effective date of January 1, 2004.

Exelon New Boston states that copies of the filing have been mailed to the ISO New England, Inc., and to each affected state regulatory agency.

Comment Date: January 20, 2004.

11. Illinois Power Company

[Docket No. ER047-345-000]

Take notice that on December 30, 2003, Illinois Power Company (Illinois Power) tendered for filing five executed service agreements for Network Integration Transmission Service (Service Agreements), subject to Illinois Power's Open Access Transmission Tariff (OATT). The service agreements are the following: (1) First Revised Service Agreement for Network Integration Transmission Service entered into by Illinois Power and The Cincinnati Gas & Electric Company (CG&E), PSI Energy, Inc. (PSI), and Cinergy Services, Inc., as agent for and on behalf of CG&E and PSI, dated November 24, 2003 (designated as First Revised Service Agreement No. 338); (2) Fourth Revised Service Agreement for Network Integration Transmission Service entered into by Illinois Power and Illinois Municipal Electric Agency, dated December 24, 2003 (designated as Fourth Revised Service Agreement No. 270); (3) Second Revised Service Agreement for Network Integration Transmission Service entered into by Illinois Power and Southern Illinois Power Cooperative, Inc., dated December 17, 2003 (designated Second Revised Service Agreement No. 243); (4) First Revised Service Agreement for Network Integration Transmission Service entered into by Illinois Power and Soyland Power Cooperative, Inc., dated December 23, 2003 (designated as First Revised Service Agreement No. 355); and (5) Second Revised Service Agreement for Network Integration Transmission Service entered into by Illinois Power and Wabash Valley Power Association, dated November 24, 2003 (designated Second Revised Service Agreement No. 353).

Comment Date: January 20, 2004.

12. Central Hudson Gas & Electric Corporation

[Docket No. ER04-346-000]

Take notice that on December 30, 2003, Central Hudson Gas & Electric Corporation (Central Hudson) tendered for filing an executed First Amendment to Amended and Restated Power Project Output Sales Agreement, dated December 29, 2003, between Central Hudson and West Delaware Hydro Associates L.P. (West Delaware), together with an Amended and Restated Hydroelectric Power Project Output Sales Agreement, dated November 1, 1998, between Central Hudson and West Delaware. Central Hudson has requested an effective date of January 1, 2004.

Central Hudson states that the tendered agreements provide for interconnection service and power sales by West Delaware to Central Hudson from West Delaware's approximately 7.5 MW hydroelectric facility located at the West Delaware Water Tunnel outlet in Sullivan County, New York. Central Hudson states that West Delaware is a qualifying facility under the Public Utility Regulatory Policies Act of 1978, which makes the interconnection and power sales service subject to New York State jurisdiction. However, Central Hudson states that, in the near future, West Delaware intends to become a market participant under the New York Independent System Operator's Market Administration and Control Area Services Tariff on file with the Commission, which will subject Central Hudson's interconnection service to the Commission's jurisdiction. Accordingly, Central Hudson has filed the referenced agreements for Commission review.

Comment Date: January 20, 2004.

13. Ameren Services Company

[Docket No. ER04-347-000]

Take notice that on December 30, 2003, Ameren Services Company (ASC) tendered for filing an executed Network Integration Transmission Service Agreement and Network Operating Agreement between ASC and Wabash Valley Power Association. ASC asserts that the purpose of the Agreement is to permit ASC to provide transmission service to Wabash Valley Power Association pursuant to Ameren's Open Access Transmission Tariff

Comment Date: January 20, 2004.

14. The Detroit Edison Company

[Docket No. ER04-348-000]

Take notice that on December 30, 2003, The Detroit Edison Company (Detroit Edison) tendered for filing a Service Agreement for Ancillary Services By and Between Detroit Edison Company and the Midwest Independent Transmission System Operator, Inc., acting as agent on behalf of certain of its Transmission Customers, dated December 1, 2003 (the Agreement). The Agreement is being filed as Service Agreement No. 1 under Detroit Edison's Ancillary Services Tariff.

Comment Date: January 20, 2004.

15. Golden Spread Electric Cooperative, Inc.

[Docket No. ER04-349-000]

Take notice that on December 30, 2003, Golden Spread Electric Cooperative, Inc. (Golden Spread), tendered for filing Amendments to First Revised Rates Schedule Nos. 25 and 27. Golden Spread states that the filing will allow Golden Spread Member Greenbelt Electric Cooperative, Inc. to change power delivery points from its Dedicated Service Rate Schedule to its System Service Rate Schedule and will allow Golden Spread Member Lighthouse Electric Cooperative, Inc. to add delivery points to its System Service Rate Schedule. Golden Spread requests an effective date of January 1, 2004, subject to receipt of necessary Lender approvals.

Comment Date: January 20, 2004.

16. XL Trading Partners America LLC

[Docket No. ER04-350-000]

Take notice that on December 30, 2003, XL Trading Partners America LLC (XL Trading America) petitioned the Commission for acceptance of XL Trading America's Rate Schedule FERC No. 1; the granting of certain blanket approvals, including the authority to sell electricity at market-based rates; and the waiver of certain Commission regulations.

Comment Date: January 20, 2004.

17. Monongahela Power Company

[Docket No. ER04-351-000]

Take notice that on December 30, 2003, Allegheny Energy Service Corporation on behalf of Monongahela Power Company (Mon Power), doing business as Allegheny Power, tendered for filing pursuant to the Federal Energy Regulatory Commission's regulations, 18 CFR 35.15, a Notice of Termination of Monongahela Power Company, Rate Schedule FERC Nos. 53, 54 and 55 consisting of Power Service Agreements between Mon Power and the City of Philippi, Harrison Rural Electrification Association and the City of New Martinsville, respectively. Mon Power states that the Agreements terminated by their own terms effective on November 30, 2003.

Comment Date: January 20, 2004.

18. Northeast Generation Company

[Docket No. ER04-352-000]

Take notice that on December 30, 2003, Northeast Generation Company (NGC) submitted pursuant to Section 205 of the Federal Power Act and Part 35 of the Commission's regulations rate schedule modifications for sale of electricity to Select Energy, Inc. in order to withdraw a Power Supply Agreement on file with the Commission. NGC requests an effective date of December 31, 2003.

NGC states that a copy of the filing was mailed to Select Energy, Inc.

Comment Date: January 20, 2004.

19. Southern Company Services, Inc.

[Docket No. ER04-353-000]

Take notice that on December 30, 2003, Southern Company Services, Inc., acting on behalf of Alabama Power Company, Georgia Power Company, Gulf Power Company, Mississippi Power Company, and Savannah Electric and Power Company (collectively, Southern Companies), filed two rollover transmission service agreements under the Open Access Transmission Tariff of Southern Companies, FERC Electric Tariff, Fourth Revised Volume No. 5.

Comment Date: January 20, 2004.

20. Wisconsin Power and Light Company

[Docket No. ER04-355-000]

Take notice that on December 30, 2003, Wisconsin Power and Light Company (WPL) on its own behalf and on behalf of Municipal Wholesale Power Group, and Wisconsin Public Power Inc. (the Parties) submitted an amendment to the settlement agreement among the Parties on file with the Commission. WPL states that the amendment is memorialized in a letter agreement among the Parties dated December 17, 2003.

Comment Date: January 20, 2004.

21. New York Independent System Operator, Inc.

[Docket No. ER04-356-000]

Take notice that on December 30, 2003, the New York Independent System Operator, Inc. (NYISO), filed modifications to its October 16, 2003, filing in which the NYISO proposed to revise its Open Access Transmission Tariff (OATT) and Market Administration and Control Area Services Tariff (Services Tariff) to (1) establish Congestion Shortfall Charges and Congestion Surplus Payments, and (2) establish Auction Shortfall Charges and Auction Surplus Payments. NYISO states that the modifications will correct the OATT and Services Tariff to exclude the effect of phase angle regulator schedule changes in calculating Congestion Shortfall Charges, Congestion Surplus Payments, Auction Shortfall Charges, and Auction Surplus Payments. The NYISO has requested that the modifications become effective on the date that the provisions in the October 16, 2003, filing became effective.

The NYISO states that it has served a copy of this filing upon all parties that have executed Service Agreements under the NYISO's OATT or Services Tariff, the New York State Public Service Commission, and the electric utility regulatory agencies in New Jersey and Pennsylvania.

Comment Date: January 20, 2004.

22. Michael J. Chesser

[Docket No. ID-3966-001]

Take notice that on December 30, 2003, Michael J. Chesser filed with the Federal Energy Regulatory Commission an application for authority to hold interlocking positions under Section 305(b) of the Federal Power Act.

Comment Date: January 20, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-50 Filed 1-14-04; 8:45 am]

BILLING CODE 6717-01-P